NATIONAL SCIENCE FOUNDATION

Advisory Panel for Developmental Mechanism; Notice of Meeting

In accordance with the Federal Advisory Committee Act (Pub. L. 92-463, as amended), the National Science Foundation (NSF) announces the following meeting.

Name: Developmental Mechanisms Advisory Board (1141).

Date/Time: October 25-27, 2000, 8:30 a.m.-6 p.m.

Place: National Science Foundation, Room 330, 4201 Wilson Blvd., Arlington, VA.

Type of Meeting: Part-Open.

Contact Persons: Dr. Judith Plesset and Dr. Susan Singer, Program Directors, Developmental Mechanism, Division of Integrative Biology and Neuroscience, Suite 685, National Science Foundation, 4201 Wilson Boulevard, Arlington, VA 22230, Telephone: (703) 306-1417.

Purpose of Meeting: To provide advice and recommendations concerning proposals submitted to NSF for financial support.

Minutes: May be obtained from the contact person listed above.

Agenda: Open Session: October 26, 2000; 3 p.m. to 4 p.m.—discussion on research trends, opportunities and assessment procedures in Integrative Biology and Neuroscience with Dr. Mary Clutter, Assistant Director, Directorate for Biological Sciences.

Closed Session: October 25, 2000, 8:30 a.m. to 6 p.m.; October 26, 2000, 8:30 a.m. to 3 p.m., and 4 p.m. to 6 p.m.; October 27, 2000, 8:30 a.m. to 5 p.m. To review and evaluate the Developmental Mechanism proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: July 24, 2000.
Karen J. York,
Committee Management Officer.

[FR Doc. 00-19031 Filed7-26-00; 8:45 am]

BILLING CODE 7555-01-M